DEPARTMENT OF ENERGY

Federal Energy Regulatory Commission

[Docket No. TS14-4-000]

Wisconsin Public Service Corporation Upper Peninsula Power Company; Notice of Filing

Take notice that on June 17, 2014, pursuant to Rule 204 of the Federal Energy Regulatory Commission's (Commission) Rules of Practice and Procedure, 18 CFR 385.204, Wisconsin Public Service Corporation and Upper Peninsula Power Company (collectively, WPS), filed a request for limited waiver of the Commission's Standards of Conduct Regulations, WPS's Standard of Conduct Procedures, and to the extent necessary, American Transmission Company, LLC's Standards of Conduct, so that certain Generating Operation personnel, classified by WPS as Marketing Function Employees can participate in the annual PSR Drill in October 2014 and subsequent years where simulations may contain non-pubic transmission system information that would otherwise be unavailable to such personnel.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on July 17, 2014.

Dated: June 18, 2014.
Nathaniel J. Davis, Sr.,
Deputy Secretary.

[FR Doc. 2014-14699 Filed 6-23-14; 8:45 am]

BILLING CODE 6717-01-P